DEPARTMENT OF VETERANS AFFAIRS

[OMB Control No. 2900-0590]

Proposed Information Collection Activity: Proposed Collection; Comment Request

AGENCY: Office of Management, Department of Veterans Affairs.

ACTION: Notice.

SUMMARY: The Office of Management (OM), Department of Veterans Affairs (VA), is announcing an opportunity for public comment on the proposed collection of certain information by the agency. Under the Paperwork Reduction Act (PRA) of 1995, Federal agencies are required to publish notice in the Federal Register concerning each proposed collection of information, including each extension of a currently approved collection, and allow 60 days for public comment in response to the notice. This notice solicits comments on information needed to determine if offerors and contractors have adequate insurance coverage prior to contract award.

DATES: Written comments and recommendations on the proposed collection of information should be received on or before February 22, 2005.

ADDRESSES: Submit written comments on the collection of information to Donald E. Kaliher, Office of Management (049A5), Department of Veterans Affairs, 810 Vermont Avenue, NW., Washington, DC 20420 or e-mail donald.kaliher@mail.va.gov. Please refer to “OMB Control No. 2900-0590” in any correspondence.

FOR FURTHER INFORMATION CONTACT: Donald E. Kaliher at (202) 273-8819.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, OM invites comments on: (1) Whether the proposed collection of information is necessary for the proper performance of OM's functions, including whether the information will have practical utility; (2) the accuracy of OM's estimate of the burden of the proposed collection of information; (3) ways to enhance the quality, utility, and clarity of the information to be collected; and (4) ways to minimize the burden of the collection of information on respondents, including through the use of automated collection techniques or the use of other forms of information technology.

Titles:

a. Veterans Affairs Acquisition Regulation Clauses 852.237-7, Indemnification and Medical Liability Insurance.

b. Veterans Affairs Acquisition Regulation Clauses 852.237-71, Indemnification and Insurance.

c. Veterans Affairs Acquisition Regulation Clauses 852.207-70, Report of Employment Under Commercial Activities.

OMB Control Number: 2900-0590.

Type of Review: Extension of a currently approved collection.

Abstract:

a. VA Acquisition Regulation Clauses 852.237-7 is used in solicitations and contracts for the acquisition of non-personal health care services. It requires the bidder/offeror prior to contract award to furnish evidence of insurability of the offeror and/or all healthcare providers who will perform under the contract. The information provided is used to ensure that VA will not be held liable for any negligent acts of the contractor or its employees and that VA and VA beneficiaries are protected by adequate insurance coverage.

b. Clause 852.237-71 is used in solicitations for vehicle or aircraft services. It requires the bidder/offeror prior to contract award to furnish evidence that the firm possesses the types and amounts of insurance required by the solicitation. The information is necessary to ensure that VA beneficiaries and the public are protected by adequate insurance coverage.

c. Clause 852.207-70 is used in solicitations for commercial items and services where the work is currently being performed by VA employees and where those employees might be displaced as a result of an award to a commercial firm. The clause requires the contractor to report the names of the affected Federal employees offered employment opening and the names of employees who applied for but not offered employment and the reasons for withholding offers to those employees. The information collected is used by contracting officers to monitor and ensure compliance by the contractor under the requirements of Federal Acquisition Regulation clause 52.207-3, Right of First Refusal of Employment.

Affected Public: Business or other for-profit; individuals and households; not-for-profit institutions, and State, Local or Tribal Government.

Estimated Annual Burden:

a. Veterans Affairs Acquisition Regulation Clauses 852.237-7, Indemnification and Medical Liability Insurance—750 hours

b. Veterans Affairs Acquisition Regulation Clauses 852.237-71, Indemnification and Insurance—250 hours.

c. Veterans Affairs Acquisition Regulation Clauses 852.207-70, Report of Employment Under Commercial Activities—15 hours.

Estimated Average Burden Per Respondent: 30 minutes.

a. Veterans Affairs Acquisition Regulation Clauses 852.237-7, Indemnification and Medical Liability Insurance—30 minutes.

b. Veterans Affairs Acquisition Regulation Clauses 852.237-71, Indemnification and Insurance—30 minutes.

c. Veterans Affairs Acquisition Regulation Clauses 852.207-70, Report of Employment Under Commercial Activities—30 minutes.

Frequency of Response: On occasion.

Estimated Number of Respondents: 2,030.

a. Veterans Affairs Acquisition Regulation Clauses 852.237-7, Indemnification and Medical Liability Insurance—1,500.

b. Veterans Affairs Acquisition Regulation Clauses 852.237-71, Indemnification and Insurance—500.

c. Veterans Affairs Acquisition Regulation Clauses 852.207-70, Report of Employment Under Commercial Activities—30.

Dated: December 10, 2004.
By direction of the Secretary.
Jacqueline Parks,
IT Specialist, Records Management Service.

[FR Doc. 04-28033 Filed 12-22-04; 8:45 am]

BILLING CODE 8320-01-P